DEPARTMENT OF VETERANS AFFAIRS

Amendment To Extend the Term of the Existing Enhanced-Use Lease (EUL) at the Department of Veterans Affairs (VA) Michael E. DeBakey VA Medical Center (VAMC) in Houston, TX

AGENCY: Department of Veterans Affairs.

ACTION: Notice of Intent to Enter into an Amendment to Extend the Term of a Current Enhanced-Use Lease.

SUMMARY: The Secretary of VA intends to enter into an amendment to extend the term of the existing EUL with Amelang Partners, LLC (lessee) at the Michael E. DeBakey VAMC in Houston, Texas. VA proposes to extend the term of the existing lease from 35 years to 75 years. The lessee will continue to lease approximately 8.18 acres of land at the VAMC, and finance, design, develop, construct, operate, manage, and maintain a mixed-use facility on the VAMC campus. In return for VA granting the EUL extension, the lessee will (a) convey to VA an approximately 7.64 acre parking lot currently serving VA, and (b) at commencement of the 40-year extension, pay VA fair market value of the aforementioned 8.18 acres of land, based on an appraisal of the underlying land and improvements. The lessee shall bear full financial and legal responsibility to redevelop and maintain the property as a mixed-use property at no cost to VA. VA plans to use the additional lease consideration from the anticipated 40-year lease extension to serve Veterans at the Michael E. DeBakey VAMC.

FOR FURTHER INFORMATION CONTACT: Edward L. Bradley, Office of Asset Enterprise Management (044), Department of Veterans Affairs, 810 Vermont Avenue, NW., Washington, DC 20420, (202) 461-7778.

SUPPLEMENTARY INFORMATION: 38 U.S.C. 8161 et seq., specifically provides that the Secretary may enter into an enhanced-use lease if he determines that the implementation of a business plan proposed by the Under Secretary for Health for applying the consideration under such a lease to the provision of medical care and services would result in a demonstrable improvement of services to eligible Veterans in the geographic service-delivery area within which the property is located. This project meets this requirement.

Approved: March 17, 2011.
John R. Gingrich,
Chief of Staff, Department of Veterans Affairs.

[FR Doc. 2011-8583 Filed 4-8-11; 8:45 am]

BILLING CODE 8320-01-P